DEPARTMENT OF HOMELAND SECURITY

Establishment of the U.S. Immigration and Customs Enforcement Advisory Committee on Family Residential Centers and Solicitation of Nominations for Membership; Correction

AGENCY: U.S. Immigration and Customs Enforcement, DHS.

ACTION: Notice of establishment of advisory committee and solicitation of membership nominations; correction.

SUMMARY: The Department of Homeland Security (DHS) published a document in the Federal Register of July 29, 2015, announcing the establishment of the U.S. Immigration and Customs Enforcement (ICE) Advisory Committee on Family Residential Centers (ACFRC) and inviting the public to nominate individuals for one-year, two-year, and three-year term appointments. The document contained an incorrect date for the nomination submissions.

FOR FURTHER INFORMATION CONTACT: John Amaya, Senior Advisor to the Director, U.S. Immigration and Customs Enforcement, Office of the Director, 500 12th Street SW., 11th Floor, Washington, DC 20536; or by email to ICE_ACFRC@ice.dhs.gov.

Correction

In the Federal Register of July 29, 2015, in FR Doc. 2015-18581, on page 45227, in the first column, correct the DATES caption to read:

DATES: Submit nominations for committee membership by August 7, 2015.

Dated: July 30, 2015.
Sarah R. Saldaña,
Director, U.S. Immigration and Customs Enforcement.

[FR Doc. 2015-19284 Filed 8-5-15; 8:45 am]

BILLING CODE 9111-28-P